DEPARTMENT OF HEALTH AND HUMAN SERVICES

National Institutes of Health

National Institute on Aging; Notice of Closed Meeting

Pursuant to section 1009 of the Federal Advisory Committee Act, as amended, notice is hereby given of the following meeting.

The meeting will be open to the public as indicated below, with attendance limited to space available. Individuals who plan to attend and need special assistance, such as sign language interpretation or other reasonable accommodations, should notify the Contact Person listed below in advance of the meeting.

The meeting will be closed to the public as indicated below in accordance with the provisions set forth in sections 552b(c)(4) and 552b(c)(6), Title 5 U.S.C., as amended for the review, discussion, and evaluation of individual grant applications conducted by the National Institute On Aging, including consideration of personnel qualifications and performance, and the competence of individual investigators, the disclosure of which would constitute a clearly unwarranted invasion of personal privacy.

Name of Committee: Board of Scientific Counselors, NIA Board of Scientific Council, NIA.

Date: May 29-31, 2024.

Closed: May 29, 2024, 8:00 a.m. to 8:45 a.m.

Agenda: To review and evaluate executive Session; Opening Remarks, (Richard J. Hodes, M.D., NIA Director, and Luigi Ferrucci, M.D., Ph.D., Scientific Director, NIA); Board Business, (Andrea LaCroix, Ph.D., Chairperson, and Holly M. Brown-Borg, Ph.D., Incoming Chairperson).

Place: National Institute on Aging, Biomedical Research Center, 3C211/Virtual, 251 Bayview Blvd., Baltimore, MD 21224 (Hybrid).

Open: May 29, 2024, 8:45 a.m. to 9:45 a.m.

Agenda: Bias in the Review Process Presentation (Marie Bernard, M.D., Chief Officer for Scientific Workforce Diversity, NIH).

Place: National Institute on Aging, Biomedical Research Center, 251 Bayview Blvd., Baltimore, MD 21224 (Hybrid).

Open: May 29, 2024, 9:45 a.m. to 10:00 a.m.

Agenda: Break.

Place: National Institute on Aging, Biomedical Research Center, 251 Bayview Blvd., Baltimore, MD 21224 (Hybrid).

Open: May 29, 2024, 10:00 a.m. to 10:15 a.m.

Agenda: LBN Overview (Susan Resnick, Ph.D., Laboratory Chief, Senior Investigator, LBN).

Place: National Institute on Aging, Biomedical Research Center, 251 Bayview Blvd., Baltimore, MD 21224 (Hybrid).

Open: May 29, 2024, 10:15 a.m. to 10:30 a.m.

Agenda: Discussion.

Place: National Institute on Aging, Biomedical Research Center, 251 Bayview Blvd., Baltimore, MD 21224 (Hybrid).

Open: May 29, 2024, 10:30 a.m. to 11:00 a.m.

Agenda: A historical perspective on BABS brain and cognitive aging studies: Setting the stage for the future (Susan Resnick, Ph.D., Laboratory Chief, Senior Investigator, LBN).

Place: National Institute on Aging, Biomedical Research Center, 251 Bayview Blvd., Baltimore, MD 21224 (Hybrid).

Open: May 29, 2024, 11:00 a.m. to 11:30 a.m.

Agenda: Discussion.

Place: National Institute on Aging, Biomedical Research Center, 251 Bayview Blvd., Baltimore, MD 21224 (Hybrid).

Closed: May 29, 2024, 11:30 a.m. to 11:45 a.m.

Agenda: To review and evaluate Dr. Resnick meets individually and privately with BSC members.

Place: National Institute on Aging, Biomedical Research Center, 251 Bayview Blvd., Baltimore, MD 21224 (Hybrid).

Open: May 29, 2024, 11:45 a.m. to 12:00 p.m.

Agenda: Break.

Place: National Institute on Aging, Biomedical Research Center, 251 Bayview Blvd., Baltimore, MD 21224 (Hybrid).

Closed: May 29, 2024, 12:00 p.m. to 1:30 p.m.

Agenda: To review and evaluate executive Session Luncheon.

Place: National Institute on Aging, Biomedical Research Center, 3A519/Virtual, 251 Bayview Blvd., Baltimore, MD 21224 (Hybrid).

Open: May 29, 2024, 1:30 p.m. to 2:00 p.m.

Agenda: Integrating omics and neuroimaging to identify ADRD risk factors, biomarkers, and therapeutic targets (Keenan Walker, Ph.D., NIH Distinguished Scholar, Tenure-Track Investigator, LBN).

Place: National Institute on Aging, Biomedical Research Center, 251 Bayview Blvd., Baltimore, MD 21224 (Hybrid).

Open: May 29, 2024, 2:00 p.m. to 2:30 p.m.

Agenda: Discussion.

Place: National Institute on Aging, Biomedical Research Center, 251 Bayview Blvd., Baltimore, MD 21224 (Hybrid).

Open: May 29, 2024, 2:30 p.m. to 3:00 p.m.

Agenda: Target discovery, preclinical validation, and clinical translation of novel Alzheimer's therapies (Madhav Thambisetty, M.D., Ph.D., Senior Investigator (Clinical), LBN).

Place: National Institute on Aging, Biomedical Research Center, 251 Bayview Blvd., Baltimore, MD 21224 (Hybrid).

Open: May 29, 2024, 3:00 p.m. to 3:30 p.m.

Agenda: Discussion.

Place: National Institute on Aging, Biomedical Research Center, 251 Bayview Blvd., Baltimore, MD 21224 (Hybrid).

Open: May 29, 2024, 3:30 p.m. to 3:45 p.m.

Agenda: Break.

Place: National Institute on Aging, Biomedical Research Center, 251 Bayview Blvd., Baltimore, MD 21224 (Hybrid).

Open: May 29, 2024, 3:45 p.m. to 4:00 p.m.

Agenda: Drs. Walker and Thambisetty meet individually and privately with BSC members.

Place: National Institute on Aging, Biomedical Research Center, 251 Bayview Blvd., Baltimore, MD 21224 (Hybrid).

Closed: May 29, 2024, 4:00 p.m. to 5:30 p.m.

Agenda: To review and evaluate executive Session (Biomedical Research Center, 3rd Floor, Room 3C211/Virtual).

Place: National Institute on Aging, Biomedical Research Center, 3C211/Virtual, 251 Bayview Blvd., Baltimore, MD 21224 (Hybrid).

Closed: May 29, 2024, 5:30 p.m. to 5:30 p.m.

Agenda: To review and evaluate adjourn.

Place: National Institute on Aging, Biomedical Research Center, 3C211/Virtual, 251 Bayview Blvd., Baltimore, MD 21224 (Hybrid).

Closed: May 30, 2024, 8:00 a.m. to 8:30 a.m.

Agenda: To review and evaluate executive Session—Opening Remarks, (Richard J. Hodes, M.D., NIA Director, and Luigi Ferrucci, M.D., Ph.D., Scientific Director, NIA), Board Business, (Andrea LaCroix, Ph.D., Chairperson, and Holly M. Brown-Borg, Ph.D., Incoming Chairperson).

Place: National Institute on Aging, Biomedical Research Center, 3C227/Virtual, 251 Bayview Blvd., Baltimore, MD 21224 (Hybrid).

Open: May 30, 2024, 8:30 a.m. to 9:00 a.m.

Agenda: Imaging meso- and microscopic neuropathology in aging using MRI (Dan Benjamini, Ph.D., Earl Stadtman-Tenure Track Investigator, LBN).

Place: National Institute on Aging, Biomedical Research Center, 251 Bayview Blvd., Baltimore, MD 21224 (Hybrid).

Open: May 30, 2024, 9:00 a.m. to 9:30 a.m.

Agenda: Discussion.

Place: National Institute on Aging, Biomedical Research Center, 251 Bayview Blvd., Baltimore, MD 21224 (Hybrid).

Open: May 30, 2024, 9:30 a.m. to 9:45 a.m.

Agenda: Break.

Place: National Institute on Aging, Biomedical Research Center, 251 Bayview Blvd., Baltimore, MD 21224 (Hybrid).

Open: May 30, 2024, 9:45 a.m. to 10:15 a.m.

Agenda: Neurocognitive aging and resilience: Systems and circuits in preclinical animal models (Peter Rapp, Ph.D., Senior Investigator, LBN).

Place: National Institute on Aging, Biomedical Research Center, 251 Bayview Blvd., Baltimore, MD 21224 (Hybrid).

Closed: May 30, 2024, 10:15 a.m. to 10:45 a.m.

Agenda: To review and evaluate drs. Benjamini and Rapp meet individually and privately with BSC members.

Place: National Institute on Aging, Biomedical Research Center, 251 Bayview Blvd., Baltimore, MD 21224 (Hybrid).

Open: May 30, 2024, 11:00 a.m. to 11:15 a.m.

Agenda: Break.

Place: National Institute on Aging, Biomedical Research Center, 251 Bayview Blvd., Baltimore, MD 21224 (Hybrid).

Closed: May 30, 2024, 11:15 a.m. to 12:30 p.m.

Agenda: To review and evaluate executive Session Luncheon.

Place: National Institute on Aging, Biomedical Research Center, 3A519/Virtual, 251 Bayview Blvd., Baltimore, MD 21224 (Hybrid).

Closed: May 30, 2024, 12:30 p.m. to 12:45 p.m.

Agenda: To review and evaluate laboratory/Branch Chief Leadership Overview (Susan Resnick, Ph.D., Laboratory Chief, Senior Investigator, LBN).

Place: National Institute on Aging, Biomedical Research Center, 251 Bayview Blvd., Baltimore, MD 21224 (Hybrid).

Closed: May 30, 2024, 12:45 p.m. to 1:00 p.m.

Agenda: To review and evaluate discussion with the Laboratory/Branch Chief.

Place: National Institute on Aging, Biomedical Research Center, 251 Bayview Blvd., Baltimore, MD 21224 (Hybrid).

Closed: May 30, 2024, 1:00 p.m. to 1:15 p.m.

Agenda: To review and evaluate leadership Review Discussion.

Place: National Institute on Aging, Biomedical Research Center, 251 Bayview Blvd., Baltimore, MD 21224 (Hybrid).

Open: May 30, 2024, 1:15 p.m. to 2:00 p.m.

Agenda: Break.

Place: National Institute on Aging, Biomedical Research Center, 251 Bayview Blvd., Baltimore, MD 21224 (Hybrid).

Closed: May 30, 2024, 2:00 p.m. to 2:45 p.m.

Agenda: To review and evaluate BSC members to meet with Fellows from LBN.

Place: National Institute on Aging, Biomedical Research Center, 251 Bayview Blvd., Baltimore, MD 21224 (Hybrid).

Open: May 30, 2024, 2:45 p.m. to 3:15 p.m.

Agenda: Novel insights into neurodegeneration through long-read sequencing- (Cornelis Blauwendraat, Ph.D., Earl Stadtman Tenure-Track Investigator, Laboratory of Neurogenetics (LNG)).

Place: National Institute on Aging, Biomedical Research Center, 251 Bayview Blvd., Baltimore, MD 21224 (Hybrid).

Open: May 30, 2024, 3:15 p.m. to 3:45 p.m.

Agenda: Discussion.

Place: National Institute on Aging, Biomedical Research Center, 251 Bayview Blvd., Baltimore, MD 21224 (Hybrid).

Closed: May 30, 2024, 4:00 p.m. to 5:00 p.m.

Agenda: To review and evaluate executive Session.

Place: National Institute on Aging, Biomedical Research Center, 3C211/Virtual, 251 Bayview Blvd., Baltimore, MD 21224 (Hybrid).

Closed: May 30, 2024, 5:00 p.m. to 5:00 p.m.

Agenda: To review and evaluate adjourn.

Place: National Institute on Aging, Biomedical Research Center, 3C211/Virtual, 251 Bayview Blvd., Baltimore, MD 21224 (Hybrid).

Closed: May 31, 2024, 8:00 a.m. to 8:30 a.m.

Agenda: To review and evaluate executive Session—Opening Remarks, (Richard J. Hodes, M.D., NIA Director, and Luigi Ferrucci, M.D., Ph.D., Scientific Director, NIA); Board Business, (Andrea LaCroix, Ph.D., Chairperson, and Holly M. Brown-Borg, Ph.D., Incoming Chairperson).

Place: National Institute on Aging, Biomedical Research Center, 3C211/Virtual, 251 Bayview Blvd., Baltimore, MD 21224 (Hybrid).

Open: May 31, 2024, 8:30 a.m. to 8:45 a.m.

Agenda: LEPS Overview (Lenore Launer, Ph.D., Laboratory Chief, Senior Investigator, LBN).

Place: National Institute on Aging, Biomedical Research Center, 251 Bayview Blvd., Baltimore, MD 21224 (Hybrid).

Open: May 31, 2024, 8:45 a.m. to 9:00 a.m.

Agenda: Discussion.

Place: National Institute on Aging, Biomedical Research Center, 251 Bayview Blvd., Baltimore, MD 21224 (Hybrid).

Open: May 31, 2024, 9:00 a.m. to 9:30 a.m.

Agenda: Creating conditions for dementia (Lenore Launer, Ph.D., Laboratory Chief, Senior Investigator, LEPS).

Place: National Institute on Aging, Biomedical Research Center, 251 Bayview Blvd., Baltimore, MD 21224 (Hybrid).

Open: May 31, 2024, 9:30 a.m. to 10:00 a.m.

Agenda: Discussion.

Place: National Institute on Aging, Biomedical Research Center, 251 Bayview Blvd., Baltimore, MD 21224 (Hybrid).

Open: May 31, 2024, 10:00 a.m. to 10:15 a.m.

Agenda: Break.

Place: National Institute on Aging, Biomedical Research Center, 251 Bayview Blvd., Baltimore, MD 21224 (Hybrid).

Open: May 31, 2024, 10:15 a.m. to 10:45 a.m.

Agenda: The biological influences of social determinants of health: challenges, surprises, and complexities (Michele K. Evans, M.D., Senior Investigator (Clinical), LEPS).

Place: National Institute on Aging, Biomedical Research Center, 251 Bayview Blvd., Baltimore, MD 21224 (Hybrid).

Open: May 31, 2024, 10:45 a.m. to 11:15 a.m.

Agenda: Discussion.

Place: National Institute on Aging, Biomedical Research Center, 251 Bayview Blvd., Baltimore, MD 21224 (Hybrid).

Open: May 31, 2024, 11:30 a.m. to 11:45 a.m.

Agenda: Break.

Place: National Institute on Aging, Biomedical Research Center, 251 Bayview Blvd., Baltimore, MD 21224 (Hybrid).

Closed: May 31, 2024, 11:45 a.m. to 1:00 p.m.

Agenda: To review and evaluate executive Session Luncheon.

Place: National Institute on Aging, Biomedical Research Center, 3A519/Virtual, 251 Bayview Blvd., Baltimore, MD 21224 (Hybrid).

Closed: May 31, 2024, 1:00 p.m. to 1:15 p.m.

Agenda: To review and evaluate laboratory/Branch Chief Leadership Overview (Lenore Launer, Ph.D., Laboratory Chief, Senior Investigator, LEPS).

Place: National Institute on Aging, Biomedical Research Center, 251 Bayview Blvd., Baltimore, MD 21224 (Hybrid).

Closed: May 31, 2024, 1:15 p.m. to 1:30 p.m.

Agenda: To review and evaluate discussion with the Laboratory/Branch Chief.

Place: National Institute on Aging, Biomedical Research Center, 251 Bayview Blvd., Baltimore, MD 21224 (Hybrid).

Closed: May 31, 2024, 1:30 p.m. to 1:45 p.m.

Agenda: To review and evaluate leadership Review Discussion.

Place: National Institute on Aging, Biomedical Research Center, 251 Bayview Blvd., Baltimore, MD 21224 (Hybrid).

Closed: May 31, 2024, 1:45 p.m. to 2:30 p.m.

Agenda: To review and evaluate BalySC members to meet with Fellows from LEPS.

Place: National Institute on Aging, Biomedical Research Center, 251 Bayview Blvd., Baltimore, MD 21224 (Hybrid).

Open: May 31, 2024, 2:30 p.m. to 2:45 p.m.

Agenda: Break.

Place: National Institute on Aging, Biomedical Research Center, 251 Bayview Blvd., Baltimore, MD 21224 (Hybrid).

Open: May 31, 2024, 2:45 p.m. to 3:00 p.m.

Agenda: Whole-genome sequencing in non-Alzheimer dementias: Progress, opportunities, and request for cloud resources (Concept) (Bryan J. Traynor, M.D., Ph.D., Senior Investigator, LNG).

Place: National Institute on Aging, Biomedical Research Center, 251 Bayview Blvd., Baltimore, MD 21224 (Hybrid).

Open: May 31, 2024, 3:00 p.m. to 3:15 p.m.

Agenda: Discussion.

Place: National Institute on Aging, Biomedical Research Center, 251 Bayview Blvd., Baltimore, MD 21224 (Hybrid).

Closed: May 31, 2024, 3:15 p.m. to 4:30 p.m.

Agenda: To review and evaluate executive Session (Final discussion of all Principal Investigators reviewed on all days.).

Place: National Institute on Aging, Biomedical Research Center, 3C211/Virtual, 251 Bayview Blvd., Baltimore, MD 21224 (Hybrid).

Closed: May 31, 2024, 4:30 p.m. to 4:30 p.m.

Agenda: To review and evaluate adjourn.

Place: National Institute on Aging, Biomedical Research Center, 3C211/Virtual, 251 Bayview Blvd., Baltimore, MD 21224 (Hybrid).

Contact Person: Luigi Ferrucci, M.D., Ph.D., Scientific Director, National Institute on Aging, 251 Bayview Boulevard, Suite 100, Room 4C225, Baltimore, MD 21224, 410-558-8110, LF27Z@NIH.GOV.

(Catalogue of Federal Domestic Assistance Program Nos. 93.866, Aging Research, National Institutes of Health, HHS)

Dated: March 19, 2024.
Miguelina Perez,
Program Analyst, Office of Federal Advisory Committee Policy.

[FR Doc. 2024-06147 Filed 3-22-24; 8:45 am]

BILLING CODE 4140-01-P